DEPARTMENT OF TRANSPORTATION

Federal Aviation Administration

14 CFR Part 39

[Docket No. FAA-2006-26250; Directorate Identifier 2006-NM-104-AD; Amendment 39-15001; AD 2007-07-01]

RIN 2120-AA64

Airworthiness Directives; Airbus Model A300 B4-600, B4-600R, and F4-600R Series Airplanes, and Model C4-605R Variant F Airplanes (Collectively Called A300-600 Series Airplanes)

AGENCY: Federal Aviation Administration (FAA), Department of Transportation (DOT).

ACTION: Final rule.

SUMMARY: The FAA is adopting a new airworthiness directive (AD) for certain Airbus Model A300-600 airplanes. This AD requires an inspection to determine if certain spoiler actuators having certain part numbers are installed, and eventual replacement of all affected actuators. This AD results from failure of a distribution block, which was detected during fatigue qualification tests of certain spoiler actuators. We are issuing this AD to prevent failure of the distribution block, which could result in leakage of the hydraulic fluid that supplies those actuators. This failure could cause failure of one of the three spoiler actuators and the associated hydraulic circuits, which could result in loss of those hydraulic circuits and consequent reduced controllability of the airplane.

DATES: This AD becomes effective May 2, 2007.

The Director of the Federal Register approved the incorporation by reference of a certain publication listed in the AD as of May 2, 2007.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A300-600 airplanes. That NPRM was published in the Federal Register on November 6, 2006 (71 FR 64904). That NPRM proposed to require an inspection to determine if certain spoiler actuators having certain part numbers are installed, and eventual replacement of all affected actuators.

Comments

We provided the public the opportunity to participate in the development of this AD. We have considered the comments received.

Request To Add Alternate Inspection of Distribution Blocks

The Air Transport Association (ATA), on behalf of one of its members, FedEx Express, asks that the inspection procedure recommended by FedEx Express of the distribution blocks on the affected spoiler actuators be included in any future rulemaking. FedEx Express states that it accomplished the proposed inspection on its airplanes, and during the inspection it found that most spoiler actuators of the specified age no longer had data plates attached; therefore, no part number or serial number was available. FedEx Express performed a detailed inspection of the distribution block on the affected spoiler actuator at the inboard and outboard positions to determine the part number. If the part number was installed, FedEx Express replaced the spoiler actuator with a serviceable spoiler actuator. FedEx Express recommends that this inspection procedure be used in any future rulemaking requiring the same actions. FedEx Express states that the procedure was coordinated with Airbus and the parts manufacturer before implementation.

We agree with the commenter's request to add an alternative inspection method of the distribution blocks on the spoiler actuators to determine the part number. Therefore, we have added an inspection to determine the part number of the distribution block of the spoiler actuator if the spoiler actuator part number cannot be found on the spoiler actuator. Paragraph (f) of this AD has been changed accordingly. In addition, if the same actions are required by future rulemaking we may consider using this inspection procedure on a case-by-case basis.

Request To State FAA Intent To Incorporate by Reference and To Publish Service Information in the Docket Management System (DMS)

The Modification and Replacement Parts Association (MARPA) asks that the NPRM, and subsequent NPRMs, indicate which documents will be incorporated by reference, and adds that those documents should be published in the DMS concurrently with the NPRM. MARPA assumes that when the final rule is issued the FAA intends to incorporate by reference the service bulletin referenced in the NPRM. MARPA states that the NPRM is incomplete if that's the case, and MARPA is unable to address the substantive elements of the NPRM without having access to the documents that are incorporated by reference.

We do not agree with the commenter's requests. When we refer to certain service information in a proposed AD, the public can assume we intend to incorporate by reference that service information, as required by the Office of the Federal Register. In regard to the request to post service bulletins on the Department of Transportation's DMS, we are currently in the process of reviewing issues surrounding the posting of service bulletins on the DMS as part of an AD docket. Once we have thoroughly examined all aspects of this issue and have made a final determination, we will consider whether our current practice needs to be revised. No change to the AD is necessary in this regard.

Request To Change Costs of Compliance Section

FedEx Express asks that the cost estimate specified in the Costs of Compliance section be changed. FedEx Express states that there are two airplanes of U.S. registry affected by the NPRM; however, the NPRM specifies only one. The ATA, on behalf of FedEx Express, reiterates the above comment. FedEx Express adds that both of its Airbus Model A300-600 airplanes manufacturer serial numbers 361 and 365, are listed in the service bulletin effectivity and are operated by FedEx Express.

We agree with the commenter for the reason provided, and have changed the Costs of Compliance section in this AD accordingly.

Conclusion

We reviewed the available data, including the comments received, and determined that air safety and the public interest require adopting the AD with the changes described previously. These changes will not increase the economic burden on any operator or increase the scope of the AD.

Costs of Compliance

This AD affects about 2 airplanes of U.S. registry.

The inspection takes about 1 hour per airplane, at an average labor rate of $80 per hour. Based on these figures, the estimated cost of the inspection for U.S. operators is $160, or $80 per airplane.

The replacements, if accomplished, take about 5 work hours per airplane, at an average labor rate of $80 per work hour. Required parts cost is minimal. Based on these figures, the estimated cost of the replacements for U.S. operators is $800, or $400 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-07-01 Airbus: Amendment 39-15001. Docket No. FAA-2006-26250; Directorate Identifier 2006-NM-104-AD.

Effective Date

(a) This AD becomes effective May 2, 2007.

Affected ADs

(b) None.

Applicability

(c) This AD applies to Airbus Model A300 B4-600, B4-600R, and F4-600R series airplanes, and Model C4-605R Variant F airplanes (collectively called A300-600 series airplanes); certificated in any category; as identified in Airbus Service Bulletin A300-27-6057, dated May 17, 2005.

Unsafe Condition

(d) This AD results from failure of a distribution block, which was detected during fatigue qualification tests of certain spoiler actuators. We are issuing this AD to prevent failure of the distribution block, which could result in leakage of the hydraulic fluid that supplies those actuators. This failure could cause failure of one of the three spoiler actuators and the associated hydraulic circuits, which could result in loss of those hydraulic circuits and consequent reduced controllability of the airplane.

Compliance

(e) You are responsible for having the actions required by this AD performed within the compliance times specified, unless the actions have already been done.

Inspection for Actuator Part Numbers and Corrective Action

(f) Within 700 flight hours after the effective date of this AD: Inspect to determine if a spoiler actuator with part number P376A0002-04 or P376A0002-08 is installed, by doing all the applicable actions in accordance with the Accomplishment Instructions of Airbus Service Bulletin A300-27-6057, excluding Appendix 01, dated May 17, 2005. If the part number cannot be found on the spoiler actuator: Operators may inspect the distribution block on the spoiler actuator to determine if part number P376A0089-00 is installed (distribution blocks having this part number are only on actuators with the affected part numbers).

(1) If no actuator with any part number identified in paragraph (f) of this AD is installed, no further action is required by this paragraph.

(2) If any actuator with any part number identified in paragraph (f) of this AD is installed and the three associated hydraulic circuits are affected (at least one actuator supplied by the yellow circuit and at least one actuator supplied by the blue circuit and at least one actuator supplied by the green circuit): Within 100 flight hours after accomplishing the inspection required by paragraph (f) of this AD, replace all affected actuators on one of the hydraulic circuits with new actuators in accordance with the service bulletin. Within 12 months after accomplishing that replacement, replace all the remaining affected actuators with new actuators in accordance with the service bulletin.

(3) If any actuator with any part number identified in paragraph (f) of this AD is installed and one or two of the associated hydraulic circuits are affected: Within 12 months after accomplishing the inspection required by paragraph (f) of this AD, replace all affected actuators with new actuators in accordance with the service bulletin.

Parts Installation

(g) After the effective date of this AD, no spoiler actuator with part number P376A0002-04 or P376A0002-08 may be installed on any airplane.

No Reporting Required

(h) Although Airbus Service Bulletin A300-27-6057, excluding Appendix 01, dated May 17, 2005, specifies to submit an inspection report to the manufacturer, this AD does not include that requirement.

Alternative Methods of Compliance (AMOCs)

(i)(1) The Manager, International Branch, ANM-116, FAA, Transport Airplane Directorate, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) French airworthiness directive F-2005-125, dated July 20, 2005, also addresses the subject of this AD.

Material Incorporated by Reference

(k) You must use Airbus Service Bulletin A300-27-6057, excluding Appendix 01, dated May 17, 2005, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call (202) 741-6030, or go to http://www.archives.gov/federal-register/cfr/ibr-locations.html.

Issued in Renton, Washington, on March 20, 2007.
Ali Bahrami,
Manager, Transport Airplane Directorate, Aircraft Certification Service.

[FR Doc. E7-5555 Filed 3-27-07; 8:45 am]

BILLING CODE 4910-13-P